DEPARTMENT OF ENERGY

Federal Energy Regulatory Commission

Combined Notice of Filings #1

May 12, 2009.

Take notice that the Commission received the following electric corporate filings:

Docket Numbers: EC07-97-003.

Applicants: Ecofin Holdings Limited.

Description: Request of Ecofin Holdings Limited for Amended Order under Section 203 of the Federal Power Act.

Filed Date: 04/27/2009.

Accession Number: 20090427-5166.

Comment Date: 5 p.m. Eastern Time on Monday, May 18, 2009.

Docket Numbers: EC09-78-000.

Applicants: Otter Tail Power Company, Cascade Investment, L.L.C.

Description: Joint Application of Cascade Investment, L.L.C. and Otter Tail Power Company for Authorization Under Section 203 of the Federal Power Act.

Filed Date: 05/07/2009.

Accession Number: 20090507-5031.

Comment Date: 5 p.m. Eastern Time on Thursday, May 28, 2009.

Take notice that the Commission received the following exempt wholesale generator filings:

Docket Numbers: EG09-41-000.

Applicants: Conectiv Vineland Solar, LLC.

Description: Conectiv Vineland Solar, LLC submits notice of self certification of exempt wholesale generator status.

Filed Date: 05/06/2009.

Accession Number: 20090507-0216.

Comment Date: 5 p.m. Eastern Time on Wednesday, May 27, 2009.

Take notice that the Commission received the following electric rate filings:

Docket Numbers: ER96-1085-013.

Applicants: South Carolina Electric & Gas Company

Description: South Carolina Electric & Gas Company submits their responses to the Commission's 4/9/09 requests concerning an updated market power analysis in compliance with Order 697.

Filed Date: 05/07/2009.

Accession Number: 20090512-0027.

Comment Date: 5 p.m. Eastern Time on Thursday, May 28, 2009.

Docket Numbers: ER97-2846-013; ER99-2311-010.

Applicants: Florida Power Corporation; Carolina Power & Light Company.

Description: Carolina Power & Light Co et al. submits response to FERC data request re the supplemental Simultaneous Import Limitation study information for updated market power analysis.

Filed Date: 05/08/2009.

Accession Number: 20090512-0033.

Comment Date: 5 p.m. Eastern Time on Friday, May 29, 2009.

Docket Numbers: ER98-542-022.

Applicants: Central & South West Services, Inc.

Description: CSW Operating Companies submits revised tariff sheet to the market based rate tariff to reflect FERC's grant of authority for CSW to sell the energy imbalance service in the imbalance market administered by the Southwest Power Pool, Inc.

Filed Date: 05/06/2009.

Accession Number: 20090507-0213.

Comment Date: 5 p.m. Eastern Time on Wednesday, May 27, 2009.

Docket Numbers: ER99-2342-012.

Applicants: Tampa Electric Company.

Description: Tampa Electric Company submits response to FERC's 4/9/09 additional information request re updated market power analyses.

Filed Date: 05/08/2009.

Accession Number: 20090512-0001.

Comment Date: 5 p.m. Eastern Time on Friday, May 29, 2009.

Docket Numbers: ER00-1712-011; ER00-1703-006; ER00-2186-006; ER01-1559-007; ER02-1327-008; ER02-1747-006; ER00-744-009; ER02-1749-006; ER02-2408-006; ER99-4503-008.

Applicants: PPL Electric Utilities Corporation, Lower Mount Bethel Energy, LLC, PPL Brunner Island, LLC, PPL Holtwood, LLC, PPL Martins Creek, LLC, PPL Montour, LLC, PPL Susquehanna, LLC, PPL University Park, LLC, PPL EnergyPlus, LLC, PPL Edgewood Energy, LLC, PPL Shoreham Energy, LLC, PPL Great Works, LLC, PPL Maine, LLC, PPL Wallingford Energy LLC.

Description: PPL Companies submits Fourth Revised Sheet 2 et al. to FERC Electric Tariff, First Revised Volume 5.

Filed Date: 05/08/2009.

Accession Number: 20090511-0105.

Comment Date: 5 p.m. Eastern Time on Friday, May 29, 2009.

Docket Numbers: ER06-615-050.

Applicants: California Independent System Operator Corporation.

Description: Informational Filing of Negotiated Default Energy Bids by California Independent System Operator Corporation.

Filed Date: 05/07/2009.

Accession Number: 20090507-5137.

Comment Date: 5 p.m. Eastern Time on Thursday, May 28, 2009.

Docket Numbers: ER06-738-019; ER02-537-022; ER03-983-018; ER06-739-019; ER07-501-018; ER07-758-014; ER08-649-011.

Applicants: Cogen Technologies Linden Venture, L.P.; Shady Hills Power Company, L.L.C.; Fox Energy Company, LLC; East Coast Power Linden Holding, LLC; Birchwood Power Partners, L.P.; Inland Empire Energy Center, L.L.C.; EFS Parlin Holdings LLC.

Description: Supplement to Notification of Non-Material Change in Status of East Coast Power Liden Holding, LLC, et al.

Filed Date: 05/06/2009.

Accession Number: 20090506-5107.

Comment Date: 5 p.m. Eastern Time on Wednesday, May 27, 2009.

Docket Numbers: ER07-188-005.

Applicants: Duke Energy Carolinas, LLC.

Description: Duke Energy Carolinas, LLC provides information responding to FERC's 4/9/09 request for additional information pertaining to the Simultaneous Import Limitation study submitted with the updated market analysis.

Filed Date: 05/08/2009.

Accession Number: 20090512-0003.

Comment Date: 5 p.m. Eastern Time on Friday, May 29, 2009.

Docket Numbers: ER07-189-005, ER07-190-005, ER07-191-005, ER07-192-003.

Applicants: Duke Energy Indiana, Inc., Duke Energy Kentucky, Inc., Duke Energy Ohio, Inc.;

Description: Duke Energy Indiana, Inc. et al. submits Second Substitute Original Sheet 2 et al. to FERC Electric Tariff, Second Revised Volume 1 & First Revised Volume 1.

Filed Date: 05/07/2009.

Accession Number: 20090512-0013.

Comment Date: 5 p.m. Eastern Time on Thursday, May 28, 2009.

Docket Numbers: ER09-482-001.

Applicants: Golden Spread Electric Cooperative, Inc.

Description: Golden Spread Electric Cooperative, Inc. submits substitute amendments to Golden Spread Eighth Revised Rate Schedule FERC 35, a long-term, bilateral Replacement Energy Agreement etc.

Filed Date: 05/07/2009.

Accession Number: 20090508-0098.

Comment Date: 5 p.m. Eastern Time on Thursday, May 28, 2009.

Docket Numbers: ER09-660-001; ER09-660-000.

Applicants: Midwest Independent Transmission System Operator, Inc.

Description: Midwest Independent Transmission System Operator, Inc. submits response to Commission's letter dated 4/6/09 requesting additional information on, and requiring amendment of the Midwest ISO's 2/6/09 proposal etc.

Filed Date: 05/06/2009.

Accession Number: 20090508-0042.

Comment Date: 5 p.m. Eastern Time on Wednesday, May 27, 2009.

Docket Numbers: ER09-740-002.

Applicants: Carolina Power & Light Company.

Description: Carolina Power & Light Company submits for acceptance Substitute Original Sheet 4 et al. to FERC's Rate Schedule 182 effective 5/24/09.

Filed Date: 05/11/2009.

Accession Number: 20090512-0037.

Comment Date: 5 p.m. Eastern Time on Monday, June 1, 2009.

Docket Numbers: ER09-797-000.

Applicants: PJM Interconnection, LLC.

Description: PJM Interconnection, LLC's Response to the Commission's 5/4/09 request for clarification providing additional information & clarification re proposed changes to Schedule 1 of the Amended & Restated Operating Agreement.

Filed Date: 05/06/2009.

Accession Number: 20090506-4001.

Comment Date: 5 p.m. Eastern Time on Wednesday, May 27, 2009.

Docket Numbers: ER09-886-001.

Applicants: Conectiv Vineland Solar, LLC.

Description: Conectiv Vineland Solar, LLC submits Substitute Original Sheet No 2 of CVS proposed market based rate tariff.

Filed Date: 05/06/2009.

Accession Number: 20090507-0215.

Comment Date: 5 p.m. Eastern Time on Wednesday, May 27, 2009.

Docket Numbers: ER09-1025-001.

Applicants: New England Gas & Electric, Inc.

Description: New England Gas & Electric, Inc. submits a Petition for Acceptance of Initial Tariff, Waivers and Blanket Authority.

Filed Date: 05/07/2009.

Accession Number: 20090508-0100.

Comment Date: 5 p.m. Eastern Time on Thursday, May 28, 2009.

Docket Numbers: ER09-1095-000.

Applicants: Vermont Electric Cooperative, Inc.

Description: Vermont Electric Cooperative, Inc. submits its 2009 transmission formula rate update to its charges produced by the formula rates applicable to the VEC-specific Local Service Schedules of the ISO New England Open Access Transmission etc.

Filed Date: 05/04/2009.

Accession Number: 20090505-0110.

Comment Date: 5 p.m. Eastern Time on Tuesday, May 26, 2009.

Docket Numbers: ER09-1097-000.

Applicants: Public Service Company of New Mexico.

Description: Public Service Company of New Mexico submits long term firm point to point transmission service agreement with Foresight Wind Energy, LLC and High Lonesome Mesa, LLC.

Filed Date: 05/05/2009.

Accession Number: 20090506-0171.

Comment Date: 5 p.m. Eastern Time on Tuesday, May 26, 2009.

Docket Numbers: ER09-1098-000.

Applicants: DownEast Power Company, LLC.

Description: DownEast Power Company, LLC submits application for Market-Based Rate Authority.

Filed Date: 05/07/2009.

Accession Number: 20090508-0044.

Comment Date: 5 p.m. Eastern Time on Thursday, May 28, 2009.

Docket Numbers: ER09-1099-000.

Applicants: Empire Generating Co, LLC.

Description: Application of Empire Generating Co, LLC for order accepting initial tariff, waiving regulations, and granting blanket approvals, including Blanket Approval under 18 CFR Part 34 for all future issuances etc.

Filed Date: 05/08/2009.

Accession Number: 20090512-0015.

Comment Date: 5 p.m. Eastern Time on Friday, May 29, 2009.

Docket Numbers: ER09-1100-000.

Applicants: Baltimore Gas and Electric Company.

Description: Baltimore Gas and Electric Company, et al., Electronic Informational Filing of 2009 Formula Rate Annual Update.

Filed Date: 05/04/2009.

Accession Number: 20090504-5109.

Comment Date: 5 p.m. Eastern Time on Tuesday, May 26, 2009.

Docket Numbers: ER09-1101-000.

Applicants: Exelon Generation Company, LLC.

Description: Exelon Generation Company, LLC submits lease of transmission facilities between Exelon Generation and PECO Energy Company.

Filed Date: 05/06/2009.

Accession Number: 20090507-0214.

Comment Date: 5 p.m. Eastern Time on Wednesday, May 27, 2009.

Docket Numbers: ER09-1102-000.

Applicants: Midwest Independent Transmission System Operator, Inc.

Description: Midwest Independent Transmission System Operator, Inc submits First Revised Service Agreement 1355 et al. to its FERC Electric Tariff, Fourth Revised Volume 1.

Filed Date: 05/06/2009.

Accession Number: 20090508-0055.

Comment Date: 5 p.m. Eastern Time on Wednesday, May 27, 2009.

Docket Numbers: ER09-1103-000.

Applicants: Bangor Hydro-Electric Company.

Description: Bangor Hydro-Electric Company et al. submits Original Service Agreement 66 to FERC Electric Tariff 3—Section II—Open Access Transmission Tariff Schedule 21.

Filed Date: 05/08/2009.

Accession Number: 20090511-0101.

Comment Date: 5 p.m. Eastern Time on Friday, May 29, 2009.

Docket Numbers: ER09-1104-000; OA09-28-000.

Applicants: Story Wind, LLC.

Description: Story Wind, LLC submits jurisdictional service agreement (Shared Facilities Agreement).

Filed Date: 05/08/2009.

Accession Number: 20090511-0102.

Comment Date: 5 p.m. Eastern Time on Friday, May 29, 2009.

Docket Numbers: ER09-1105-000.

Applicants: PJM Interconnection, LLC.

Description: PJM submits executed Interconnection Construction Service Agreement with Exelon Generation Company et al.

Filed Date: 05/08/2009.

Accession Number: 20090511-0103.

Comment Date: 5 p.m. Eastern Time on Friday, May 29, 2009.

Docket Numbers: ER09-1109-000; ER09-1109-001; ER09-1110-000; ER09-1110-001; ER09-1111-000; ER09-1111-001; ER09-1112-000; ER09-1112-001; ER09-1113-000; ER09-1113-001; ER09-1114-000; ER09-1114-001; ER09-1115-000; ER09-1115-001; ER09-1116-000; ER09-1106-001; ER09-1107-000; ER09-1107-001; ER09-1108-000; ER09-1108-001.

Applicants: RRI Energy Coolwater, Inc; RRI Energy Electric Solutions, LLC; RRI Energy Ellwood, Inc.; RRI Energy Etiwanda, Inc.; RRI Energy Florida, LLC; RRI Energy Mandalay, Inc.; RRI Energy Mid-Atlantic Power Holdings, RRI Energy Ormond Beach, Inc.; RRI Energy Services, Inc.; RRI Energy Solutions East, LLC; RRI Energy Wholesale Generation, LLC.

Description: RRI Companies submits notices of succession to notify the Commission of the corporate name change of each of the RRI Companies effective as of 5/2/09 and a notice of non-material change in status.

Filed Date: 05/07/2009.

Accession Number: 20090511-0106.

Comment Date: 5 p.m. Eastern Time on Thursday, May 28, 2009.

Docket Numbers: ER09-1119-000.

Applicants: Pacific Gas and Electric Company.

Description: Pacific Gas and Electric Company submit Service Agreement for Wholesale Distribution Service and Interconnection between PG&E and City and County of San Francisco.

Filed Date: 05/11/2009.

Accession Number: 20090512-0038.

Comment Date: 5 p.m. Eastern Time on Monday, June 1, 2009.

Take notice that the Commission received the following open access transmission tariff filings:

Docket Numbers: OA08-19-002.

Applicants: Ohio Valley Electric Corporation.

Description: Compliance Filing of Ohio Valley Electric Corporation.

Filed Date: 05/11/2009.

Accession Number: 20090511-5181.

Comment Date: 5 p.m. Eastern Time on Monday, June 1, 2009.

Take notice that the Commission received the following public utility holding company filings:

Docket Numbers: PH09-17-000.

Applicants: Continental Energy Systems LLC.

Description: FERC-65A Exemption Notification and Notice of Material Change in Facts of Continental Energy Systems LLC.

Filed Date: 05/06/2009.

Accession Number: 20090506-5106.

Comment Date: 5 p.m. Eastern Time on Wednesday, May 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-11668 Filed 5-19-09; 8:45 am]

BILLING CODE 6717-01-P